DEPARTMENT OF AGRICULTURE

Foreign Agricultural Service

Meetings of the Agricultural Policy Advisory Committee for Trade and the Agricultural Technical Advisory Committees for Trade

AGENCY: Foreign Agricultural Service, USDA.

ACTION: Notice of closed meetings.

SUMMARY: Notice is hereby given that the Agricultural Policy Advisory Committee for Trade (APAC) and the Agricultural Technical Advisory Committees for Trade (ATACs) will hold closed meetings on May 6, 2010. The advisory committees are administered by the U.S. Department of Agriculture and the Office of the United States Trade Representative (USTR). The meetings are closed to the public in accordance with the Trade Act of 1974, 19 U.S.C. 2155(f)(2), and the Government in the Sunshine Act, 5 U.S.C. 552b(c)(4)(6). USTR has determined that public access to the meetings would seriously compromise the development by the U.S. government of trade policy priorities, negotiating objectives, or bargaining positions with respect to the operation of trade agreements and other matters arising in connection with the development, implementation, and administration of the trade policy of the United States. Topics will include Doha Round negotiations in the World Trade Organization (WTO), WTO accession negotiations, and negotiations in bilateral and regional free trade agreements.

DATES: The meetings are scheduled for May 6, 2010, unless otherwise notified.

ADDRESSES: The meetings will be held at the U.S. Department of Agriculture, 1400 Independence Ave., SW., Washington, DC 20250.

FOR FURTHER INFORMATION CONTACT: Lorie Fitzsimmons by phone at (202) 720-3430 or by e-mail at lorie.fitzsimmons@fas.usda.gov.

SUPPLEMENTARY INFORMATION: The APAC is authorized by sections 135(c)(1) and (2) of the Trade Act of 1974, as amended (Pub. L. 93-618, 19 U.S.C. 2155). The purpose of the committee is to advise the Secretary of Agriculture and the USTR concerning agricultural trade policy. The committee is intended to ensure that representative elements of the private sector have an opportunity to express their views to the U.S. government.

The ATACs are comprised of six committees covering the following commodity sectors: Animals and Animal Products; Fruits and Vegetables; Grains, Feed and Oilseeds; Processed Foods; Sweeteners and Sweetener Products and Tobacco; Peanuts and Planting Seeds. Each is authorized by sections 135(c)(1) and (2) of the Trade Act of 1974, as amended (Pub. L. 93-618, 19 U.S.C. 2155). These committees address the technical aspects of issues and provide advice to the benefit of the Secretary of Agriculture and the USTR.

The committees meet at the call of the Secretary of Agriculture and the USTR through the respective Designated Federal Officers depending on the level of activity in trade agreement negotiations and/or other matters concerning the administration of trade policy, the needs of the Secretary of Agriculture and the USTR, and the activity of the technical-level committees.

Signed at Washington, DC, on April 19, 2010.
John D. Brewer,
Administrator, Foreign Agricultural Service.

[FR Doc. 2010-10273 Filed 4-30-10; 8:45 am]

BILLING CODE 3410-10-P